DEPARTMENT OF COMMERCE

National Oceanic and Atmospheric Administration

[I.D. 031902B]

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet April 7-12, 2002. The Council meeting will begin on Tuesday, April 9, at 8 a.m., reconvening each day through Friday. All meetings are open to the public, except a closed session will be held from 8 a.m. until 9:30 a.m. on Tuesday, April 9 to address litigation and personnel matters. The Council will meet as late as necessary each day to complete its scheduled business.

ADDRESSES: The meetings and hearing will be held at the DoubleTree Hotel-Columbia River, 1401 N Hayden Island Drive, Portland, OR 97217; telephone: 503-283-2111.

Council address: Pacific Fishery Management Council, 7700 NE Ambassador Place, Suite 200, Portland, OR 97220.

FOR FURTHER INFORMATION CONTACT: Dr. Donald O. McIsaac, Executive Director; telephone: (503) 326-6352.

SUPPLEMENTARY INFORMATION: The following items are on the Council agenda, but not necessarily in this order:

A. Call to Order

1. Opening Remarks, Introductions,

2. Roll Call

3. Executive Director's Report

4. Approve Agenda

5. Approve September and November Meeting Minutes

B. Mitchell Act

C. Salmon Management

1. Report on Federal Regulation Implementation

2. Identification of Stocks Not Meeting Escapement Goals for Three Consecutive Years

3. Methodology Reviews for 2002

4. Tentative Adoption of 2002 Ocean Salmon Management Measures for Analysis

5. Clarify Council Direction on 2002 Management Measures, (If Necessary)

6. Final Action on 2002 Measures

7. Clarification of Final Action on 2002 Measures, (If Necessary)

D. Marine Reserves

1. Status of Channel Island National Marine Sanctuary Proposal and Other Marine Reserves Processes

E. Habitat Issues

1. Essential Fish Habitat Issues

F. Groundfish Management

1. Status of NMFS Regulatory and Other Nonregulatory Activities

2. Permit Stacking Issues

3. Status of Fisheries and Consideration of Inseason Adjustments

4. Rebuilding Plan Status Report

5. Groundfish Multi-year Management Cycle

6. Stock Assessment Review Process Issues

7. Exempted Fishing Permit Applications

8. Fisheries Ecosystem Plan for Northern California

9. Yelloweye Landings in Halibut Fishery Area

10. Strategic Plan Implementation

11. Statements

12. Groundfish Fishery Management Plan Environmental Impact Statement

G. Pacific Halibut Management

1. 2002 Incidental Catch Regulations

2. Final Action on 2002 Management Measures

H. Administrative and Other Matters

1. Status of Legislation

2. Appointments to Advisory Bodies, Standing Committees, and Other Forums

3. Council's “Statement of Organization, Practices, and Procedures” and “Council Operating Procedures” Documents

4. Research and Data Needs Process and Economic Data Plan

5. Council Staff Workload Priorities

6. June 2002 Council Meeting Draft Agenda

SCHEDULE OF ANCILLARY MEETINGS
SUNDAY, APRIL 7, 2002 |
Klamath Fishery Management Council | 3 p.m.
MONDAY, APRIL 8, 2002 |
Council Secretariat | 7 a.m.
Salmon Advisory Subpanel | 8 a.m.
Scientific and Statistical Committee | 8 a.m.
Salmon Technical Team | 8 a.m.
Habitat Advisory Board | 10 a.m.
Groundfish Advisory Subpanel | 1:30 a.m.
Groundfish Management Team | 8 a.m.
Klamath Fishery Management Council | As necessary
Tribal Policy Group | As necessary
Tribal and Washington Technical Group | As necessary
TUESDAY, APRIL 9, 2002 |
Council Secretariat | 7 a.m.
California State Delegation | 7 a.m.
Oregon State Delegation | 7 a.m.
Washington State Delegation | 7 a.m.
Groundfish Advisory Subpanel | 8 a.m.
Groundfish Management Team | 8 a.m.
Scientific and Statistical Committee | 8 a.m.
Klamath Fishery Management Council | As necessary
Salmon Advisory Subpanel | 8 a.m.
Salmon Technical Team | 8 a.m.
Tribal Policy Group | As necessary
Tribal and Washington Technical Group | As necessary
Enforcement Consultants | 5 p.m.
WEDNESDAY, APRIL 10, 2002 |
Council Secretariat | 7 a.m.
California State Delegation | 7 a.m.
Oregon State Delegation | 7 a.m.
Washington State Delegation | 7 a.m.
Groundfish Advisory Subpanel | 8 a.m.
Groundfish Management Team | 8 a.m.
Klamath Fishery Management Council | As necessary
Salmon Advisory Subpanel | As necessary
Salmon Technical Team | As necessary
Tribal Policy Group | As necessary
Tribal and Washington Technical Group | As necessary
Enforcement Consultants | As necessary
THURSDAY, APRIL 11, 2002 |
Council Secretariat | 7 a.m.
California State Delegation | 7 a.m.
Oregon State Delegation | 7 a.m.
Washington State Delegation | 7 a.m.
Groundfish Management Team | As necessary
Salmon Advisory Subpanel | As necessary
Salmon Technical Team | As necessary
Tribal Policy Group | As necessary
Tribal and Washington Technical Group | As necessary
Enforcement Consultants | As necessary
FRIDAY, APRIL 12, 2002 |
Council Secretariat | 7 a.m.
California State Delegation | 7 a.m.
Oregon State Delegation | 7 a.m.
Washington State Delegation | 7 a.m.
Salmon Advisory Subpanel | As necessary
Salmon Technical Team | As necessary
Tribal Policy Group | As necessary
Tribal and Washington Technical Group | As necessary
Enforcement Consultants | As necessary

Although nonemergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 326-6352 at least five days prior to the meeting date.

Dated: March 19, 2002.
Richard W. Surdi,
Acting Director,Office of Sustainable Fisheries, National Marine Fisheries Service.

[FR Doc. 02-6985 Filed 3-21-02; 8:45 am]

BILLING CODE 3510-22-S